FEDERAL COMMUNICATIONS COMMISION

Notice of Public Information Collection(s) being Reviewed by the Federal Communications Commission for Extension Under Delegated Authority 5 CFR 1320 Authority, Comments Requested

February 20, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 2, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0474.

Title: Section 74.1263, Time of Operation.

Form Number: N/A.

Type of Review: Extension of a currently approved collection.

Respondents: Business or other profit entities; Not-for-profit institutions.

Number of Respondents: 75.

Estimated Time per Response: 0.5 hours.

Frequency of Response: On occasion reporting requirement.

Total Annual Burden: 38 hours.

Total Annual Costs: $0.00.

Needs and Uses: 47 CFR 74.1263(c) requires licensees of FM translator or booster stations to notify the Commission of their intent to discontinue operations for 30 or more consecutive days. In addition, licensees must notify the Commission within 48 hours of the station's return to operation. Section 74.1263(d) requires FM translator or booster station licensees to notify the Commission of their intent to permanently discontinue operations and to forward the station license to the FCC for cancellation. FCC staff uses these data to keep records up-to-date. These notifications inform FCC staff that frequencies are not being used for a specified amount of time and that frequencies have become available for other users.

OMB Control Number: 3060-0602.

Title: Section 76.917, Notification of Certification Withdrawal.

Form Number: N/A.

Type of Review: Extension of currently approved collection.

Respondents: State, Local or Tribal Government.

Number of Respondents: 5.

Estimated Time per Response: 0.5 hours.

Frequency of Response: One time reporting requirement.

Total annual burden: 3 hours.

Total Annual Costs: $0.00.

Needs and Uses: 47 CFR 76.917 of the FCC Rules requires a local franchising authority (“LFA”) that has been certified to regulate basic service tier (“BST”) cable rates to notify the Commission if it no longer intends to regulate BST cable rates. The notifications are used by the Commission to readily determine the extent of BST rate regulation of cable systems and to be aware of circumstances where certified LFAs no longer intend to regulate BST cable rates.

Federal Communications Commission.
Marlene H. Dortch,
Secretary.

[FR Doc. 03-4829 Filed 2-28-03; 8:45 am]

BILLING CODE 6712-10-P